DEPARTMENT OF HEALTH AND HUMAN SERVICES

Administration for Children and Families

Office Of Community Services; Community Economic Development Program

AGENCY: Office of Community Services, Administration for Children and Families (ACF), Department of Health and Human Services (HHS).

ACTION: Replacement Grant.

CFDA#: 93.570.

Legislative Authority: The Community Services Block Grant (CSBG) Act of 1981, as amended by section 680 (a)(2) of the Community Opportunities, Accountability, and Training and Educational Services Act of 1998.

Amount of Award: $663,263.00.

Project Period: September 30, 2005 to September 29, 2008.

SUMMARY: The purpose of the Community Economic Development (CED) grants is to create new employment and business development opportunities for low-income individuals. The Office of Community Services (OCS) awarded a $663,263 CED grant (Grant No. 90EE0720) to Hall Neighborhood House in Bridgeport, Connecticut, on September 29, 2005. Prior to the expenditure of any of the grant funds, the grantee informed OCS in a letter dated April 17, 2006, that it wished to “relinquish the management and operation of this program effective immediately.” The letter stated the grantee's “current financial instability” as the reason for the action.

In an attempt not to lose the benefits for the community that were intended through the CED grant, OCS identified a possible replacement recipient: Action for Bridgeport Community Development, Inc (ABCD). The organization is being considered as a replacement recipient for the following reasons:

• ABCD is a previously successful CED grantee (grant #90EE0546).

• ABCD is headquartered approximately a mile and a half from the offices of Hall Neighborhood House (HNH) in Bridgeport, CT and will serve the same community. Also, ABCD and HNH have worked together in the past and reportedly have maintained a good working relationship.

• ABCD has a significantly sophisticated budget to manage this project effectively. (In 2003, the organization had gross receipts of approximately $20 million.).

• ABCD was recently selected by the Head Start Bureau to be the successor grantee of HNH's active Head Start grant.

• ACF Region I Administrator Hugh Galligan speaks highly of the performance of ABCD and has recommended that it be the replacement recipient.

OCS has received and reviewed an application from ABCD. Upon finding that the proposed project is significantly similar to the one chosen for funding through HNH, OCS has requested that ABCD be approved as the permanent replacement recipient for Grant No. 90EE0720.

FOR FURTHER INFORMATION CONTACT: Office of Community Services, 370 L'Enfant Promenade, SW., Washington, DC 20447, Thom Campbell—(202) 401-5483, tcampbell@acf.hhs.gov.

Dated: August 4, 2006.
Josephine B. Robinson,
Director, Office of Community Services.

[FR Doc. E6-13667 Filed 8-17-06; 8:45 am]

BILLING CODE 4184-01-P